DEPARTMENT OF COMMERCE

Census Bureau

National Employers Survey—(NES 2000)

ACTION: Proposed collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before April 17, 2000.

ADDRESSES: Direct all written comments to Linda Engelmeier, Departmental Forms Clearance Officer, Department of Commerce, Room 5027, 14th and Constitution Avenue, NW, Washington, DC 20230 (or via the Internet at LEngelme@doc.gov).

FOR FURTHER INFORMATION CONTACT: Requests for additional information or copies of the information collection instrument(s) and instructions should be directed to Michael Hartz, U.S. Bureau of the Census, Room 2535-3—EPCD, Washington, DC 20233-6100; (301-457-2633).

SUPPLEMENTARY INFORMATION:

I. Abstract

The Census Bureau conducted three earlier National Employers Surveys (1994, 1995 and 1997) for the National Center on the Educational Quality of the Workforce (EQW), a nonprofit research group. This survey will be sponsored by the U.S. Department of Education and the National School-to-Work Office. These groups focus on discovering relationships among employment, hiring, training, education, and business success. This information collection seeks to build upon the results of the previous surveys.

This information collection goes beyond the previous National Employers Surveys in that it seeks to explore employees' histories and to identify employees' perceptions regarding employer-provided training and job-related educational requirements. The collection will relate these employees' responses to similar information collected from employers. The purpose is to identify those areas where employee and employer views are similar and where they are different. This information then will be used to suggest areas where additional emphasis regarding employer job requirements are needed to enable potential employees to qualify for employment.

This new survey will incorporate a telephone survey of employers that responded to the 1997 National Employers survey (NES-3) and a mail questionnaire to be sent to approximately 15,000 employees of a sample of the surveyed companies. During the telephone survey, employers will be asked to volunteer to participate in the employee survey. Companies which volunteer will be sent a package of 30 questionnaires along with instructions on how to distribute these questionnaires to a sample of their employees. The employees will fill out the questionnaires and send them back to the Census Bureau in postage paid envelopes provided. The questionnaire will include about 74 questions that solicit employees' views regarding employment qualifications and training opportunities available to them that relate to their employment. These survey questions are constructed to eliminate the need for respondents to review any records relating to the subject of this collection. We expect that each respondent will spend about 20 minutes completing the questionnaire.

II. Method of Collection

The Census Bureau will conduct the NES 2000 using both a telephone survey and a mail questionnaire. The telephone survey will cover about 3,000 employers that provided information for the NES-3 in 1997. The telephone interview will last less than 30 minutes. During the telephone interview, the employer will be asked to participate in the employee survey. Although we expect more than 500 employers to volunteer for the employee survey, we will limit participation to 500. We will select employers so that we get a representative sample. Employers which volunteer to participate and are selected, will be sent a package of 30 questionnaires along with instructions on how to distribute these questionnaires to a sample of their employees. The employees will fill out the questionnaires and send them back to the Census Bureau in postage paid envelopes provided. The employee questionnaire will be distributed to approximately 15,000 employees. The questionnaire will consist of approximately 74 questions. Most questions will be constructed using a “check-box” format. The check boxes primarily will be questions requiring a “yes/no” or “on a range of 1 to 5” response.

Employees completing the questionnaires will send them directly to the Census Bureau, using pre-addressed, postage-paid return envelopes. Employers will not be allowed access to the questionnaires completed by the employees or the information reported on the questionnaires. Confidentiality is guaranteed by Title 13, United States Code. After the Census Bureau performs data keying and consistency editing, the data set will be provided to sworn Census agents representing the survey sponsors.

High participation rates for both the telephone survey of employers and the employee survey are crucial for statistically reliable data in the NES 2000. We have limited participation to 500 employers in order to keep the respondent burden and the costs of the survey, as low as possible. However, we expect that the responses from the employees of the 500 participating companies will be sufficient to provide useful and representative information. The Census Bureau has discussed survey participation with selected respondents from the NES-3. Nearly all of the business establishments we contacted stated that they would strongly consider participating in the survey. The businesses indicated that their decision to participate in a survey was primarily based on their perception of the usefulness of the requested information. The businesses are very interested in the issues of the survey. One business respondent said, “After all, these are our concerns, too.” Also, more 1997 respondents (employers) than in the previous two NES surveys told the interviewers that they wanted the results of the survey. Based on these factors (and especially the employer concerns about these workplace issues), we expect a sufficiently high rate of the employers from the NES-3 to participate in the NES 2000.

We plan to rely on the employers to select the sample of their employees and distribute the questionnaires to them. We will be talking to a few more respondents to help design an effective and comfortable operational design for selecting employees and distributing the materials. The Census Bureau is confident in the ability of the volunteering businesses to draw a reliable, random sample of employees, based on payroll records containing the Social Security number (which we may instruct them to use as the selection criterion).

The survey sponsors considered two designs for this survey. One was to measure only newly hired employees and address a set of issues that relate to that segment of the work force. Another was to survey employees across the board. When we asked about limiting the selection to “new hires,” several of the businesses thought that would pose a problem and recommended that we survey all their employees. We will work with a few of the potential respondents to determine how to impart our statistical requirements in written instructions.

Another concern we discussed was anonymity. Those businesses we consulted feel that employees are more likely to return the questionnaires with accurate responses if we can assure them that the employer would not see any of the responses and would not know if the employee had responded or not. Employees are very sensitive to access of their personal information, and we feel that good response will require that we provide assurance of confidentiality.

Anonymity, sampling of employees, and operational considerations will be considered during the 60-day comment period and we would particularly welcome any ideas or concerns on these issues.

III. Data

OMB Number: Not available.

Form Number: NES 2000.

Type of Review: Regular.

Affected Public: Employers in business establishments with 20 or more employees and employees of these establishments.

Estimated Number of Respondents: 3,000 employers and 15,000 employees.

Estimated Time Per Response: Employers 30 minutes, Employees 20 minutes.

Estimated Total Annual Burden Hours: 6,500 hours.

Estimated Total Annual Cost: There is no cost to the respondent other than the time required to complete the telephone interview. Employers that volunteer for the employee survey will incur a small cost in selecting the sample of employees and distributing the questionnaires to these employees.

Respondent's Obligation: Voluntary.

Legal Authority: Title 13 United States Code, Sections 8 and 9.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: February 8, 2000.
Linda Engelmeier,
Departmental Forms Clearance Officer, Office of the Chief Information Officer.

[FR Doc. 00-3561 Filed 2-14-00; 8:45 am]

BILLING CODE 3510-07-P